FARM CREDIT ADMINISTRATION

Privacy Act of 1974; System of Records

AGENCY: Farm Credit Administration.

ACTION: Rescission of a System of Records Notice.

SUMMARY: Pursuant to the provisions of the Privacy Act of 1974, notice is hereby given that the Farm Credit Administration (FCA or Agency) is rescinding the System of Records Notice, FCA-18—Inspector General Investigative Files—FCA, which is duplicative of FCA-7—Inspector General Investigative Files—FCA.

DATES: You may send written comments on or before September 21, 2020. The proposed action will become effective without further publication on September 29, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to. . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov.

Once you are in the website, click inside the “I want to. . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4019, TTY (703) 883-4020.

SUPPLEMENTARY INFORMATION: This publication satisfies the requirement of the Privacy Act of 1974 and subsequent guidance from the Office of Management and Budget that agencies publish in the Federal Register, notice of rescission of a System of Records Notice when an agency stops maintaining a previously established system of records. A review of the System of Records Notice, FCA-18—Inspector General Investigative Files—FCA, was conducted in March 2020. The Agency determined the system notice was duplicative of another system, FCA-7—Inspector General Investigative Files—FCA and is no longer necessary. The Agency previously published a notice of rescission for FCA-18 but erroneously maintained the system on its list of active systems of records.

As required by 5 U.S.C. 552a(r) of the Privacy Act, as amended, the FCA sent notice of this action to the Office of Management and Budget, the Committee on Oversight and Government Reform of the House of Representatives, and the Committee on Homeland Security and Governmental Affairs of the Senate.

SYSTEM NAME AND NUMBER:

FCA-18—Inspector General Investigative Files—FCA.

HISTORY:

Federal Register Vol. 64, No. 100/Tuesday, May 25, 1999 page 21875, Vol. 70, No. 183/Thursday, September 22, 2005, page 55621.

Dated: August 13, 2020.
Dale Aultman,
Secretary, Farm Credit Administration Board.

[FR Doc. 2020-18225 Filed 8-19-20; 8:45 am]

BILLING CODE 6705-01-P